DEPARTMENT OF DEFENSE

Department of the Army, Corps of Engineers

Withdrawal of Notice of Intent (NOI) To Prepare a Draft Environmental Impact Statement (DEIS) Pursuant to Section 203 of Water Resources Development Act of 1986 for the Wilmington Harbor Navigation Improvement Project Integrated Feasibility Study and Environmental Report, New Hanover and Brunswick Counties, NC

AGENCY: Department of the Army, U.S. Army Corps of Engineers, DoD.

ACTION: Notice of intent; withdrawal.

SUMMARY: The U.S. Army Corps of Engineers (USACE) is issuing this notice to advise Federal, State, and local governmental agencies and the public that USACE is withdrawing the notice of intent for the preparation of the DEIS pursuant to Section 203 of Water Resources Development Act (WRDA) of 1986 for the Wilmington Harbor Navigation Improvement Project Integrated Feasibility Study and Environmental Report, which was published in the Federal Register on September 12, 2019. Since publication of the NOI, the project was conditionally authorized under Section 403 of WRDA of 2020: Authorization of Projects Based on Feasibility Studies Prepared by Non-Federal Interests. USACE will be initiating a separate environmental review process for the Federal action related to the conditional authorization under Section 403 of WRDA of 2020.

DATES: The notice of intent to prepare an EIS published in the Federal Register on September 12, 2019 (84 FR 48131), is withdrawn as of March 10, 2023.

ADDRESSES: U.S. Army Corps of Engineers, Wilmington; 69 Darlington Avenue, Wilmington, North Carolina 28403.

FOR FURTHER INFORMATION CONTACT: Questions about the withdrawal of the Notice of Intent can be directed to Andrea Stolba, (910) 882-4936 at andrea.m.stolba@usace.army.mil.

SUPPLEMENTARY INFORMATION: A draft environmental report and integrated feasibility study for potential navigation improvements to the Wilmington Harbor Federal navigation channel leading from the Atlantic Ocean to the Port of Wilmington, North Carolina, was prepared in 2020 by the NCSPA under the authority granted by Section 203 of WRDA of 1986. The study area was the existing Wilmington Harbor federal navigation channel that originates offshore and extends approximately 38 miles through the Atlantic Ocean and up the Cape Fear River to the City of Wilmington, NC where it services the Port of Wilmington. The existing project provides for a channel −44 feet Mean Lower Low Water (MLLW) through the ocean bar and entrance channel, changing to −42 feet (MLLW) extending to just downstream of the Cape Fear Memorial Bridge. The Port of Wilmington has experienced increases in cargo volume and in the size of vessels calling at the port since the last major channel improvements were completed by the USACE under the Wilmington Harbor Project authorized under WRDA of 1996.

The Section 403 authorization for the navigation project, Wilmington Harbor, North Carolina, is conditioned upon the resolution of comments from the review assessment of the ASA(CW), titled “Review Assessment of Wilmington Harbor, North Carolina Navigation Improvement Project Integrated Section 203 Study & Environmental Report (February 2020)” and dated May 17, 2020.

Resolution of comments from the May 2020 ASA(CW) review assessment and any future Federal action related to the conditional authorization under Section 403 of WRDA of 2020 will comply with the requirements of NEPA (42 U.S.C. 4321 et seq.), Council on Environmental Quality's NEPA Implementing Regulations (40 CFR part 1500-1508), and USACE Procedures For Implementing NEPA (33 CFR part 230), and other related environmental review requirements. The USACE will initiate a separate environmental review process for the federal action pursuant to the Section 403 authorization.

Daniel H. Hibner,
Brigadier General, U.S. Army, Commanding.

[FR Doc. 2023-04904 Filed 3-9-23; 8:45 am]

BILLING CODE 3720-58-P